DEPARTMENT OF COMMERCE

Census Bureau

Annual Retail Trade Survey

ACTION: Proposed collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before August 23, 2002.

ADDRESSES: Direct all written comments to Madeleine Clayton, Departmental Paperwork Clearance Officer, Department of Commerce, Room 6608, 14th and Constitution Avenue, NW., Washington, DC 20230 (or via the Internet at mclayton@doc.gov).

FOR FURTHER INFORMATION CONTACT Requests for additional information or copies of the information collection instrument(s) and instructions should be directed to Scott A. Scheleur, U.S. Census Bureau, Room 2626-FOB 3, Washington, DC 20223-6500, (301) 457-2713.

SUPPLEMENTARY INFORMATION

I. Abstract

The Annual Retail Trade Survey (ARTS) provides a sound statistical basis for the formation of policy by other government agencies. It provides continuing and timely national statistics on retail trade and accommodation and food services, augmenting the period between economic censuses, and is a continuation of similar retail trade surveys conducted each year since 1951 (except 1954). The data collected—annual sales and operating receipts, e-commerce sales and receipts, purchases, end-of-year inventories, and accounts receivables—are applicable to a variety of public and business needs. Data items collected for accommodation and food services are annual receipts and e-commerce receipts. The estimates of purchased merchandise will be used to estimate trade margins on commodities sold in calculating the personal consumption portion of the Gross Domestic Product (GDP) by the Bureau of Economic Analysis (BEA). Accounts receivable balances are used by the Federal Reserve Board in measuring consumer credit. Businesses use these estimates to determine market share and to perform other analysis.

The ARTS sample consists of all firms operating retail establishments within the U.S. whose probability of selection is determined by sales size, as reported in the Monthly Retail Trade Survey (MRTS). An additional panel of cases who report only in the annual survey are also canvassed. Estimates developed in the ARTS are used to benchmark the monthly sales and inventories series and the firms canvassed in this survey are not required to maintain additional records since carefully prepared estimates are acceptable if book figures are not available.

ARTS will convert its collection instrument from printing respondent information on pre-stocked report forms to a print-on-demand system referred to as DocuPrint. DocuPrint offers more flexibility in selecting and combining various images with variable questions and messages depending on changing coverage and kind of business and allows us to tailor survey questions to a specific respondent. The key benefit of this system is its ability to print a specific document or set of related documents (when requested), and overlay variable data, bar code and address label information in predetermined locations throughout the document(s), all in one pass when the images and messages are summoned to the printer. This process reduces the time and cost of preparing mailout packages that contain unique variable data, while improving the look and quality of the products produced.

II. Method of Collection

We will collect this information by mail, FAX and telephone follow-up.

III. Data

OMB Number: 0607-0013.

Form Number: SA-44, SA-44A, SA-44C, SA-44E, SA-44N, SA-44S, SA-45, SA-45C, and SA-721.

Type of Review: Regular Submission.

Affected Public: Retail Businesses.

Estimated Number of Respondents: 22,977.

Estimated Time Per Response: 24.3 minutes.

Estimated Total Annual Burden Hours: 9,299.

Estimated Total Annual Cost: The cost to the respondent for fiscal year 2003 is estimated to be $194,442, based on an annual response burden of 9,299 hours and a rate of $20.91 per hour to complete the form.

Respondent's Obligation: Mandatory.

Legal Authority: Title 13, U.S.C., Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 18, 2002.
Madeleine Clayton,
Departmental Paperwork Clearance Officer, Office of the Chief Information Officer.

[FR Doc. 02-15784 Filed 6-21-02; 8:45 am]

BILLING CODE 3510-07-P